DEPARTMENT OF THE TREASURY

Internal Revenue Service

26 CFR Parts 1 and 602

[TD 8975]

RIN 1545-BA21

Certain Transfers of Property to Regulated Investment Companies [RICs] and Real Estate Investment Trusts [REITs]; Correction

AGENCY: Internal Revenue Service (IRS), Treasury.

ACTION: Correction to temporary regulations.

SUMMARY: This document contains corrections to temporary regulations that were published in the Federal Register on Wednesday, January 2, 2002 (67 FR 8) relating to certain transactions or events that result in a Regulated Investment Company [RIC] or a Real Estate Investment Trust [REIT] owning property that has a basis determined by reference to a C corporation's basis in the property under sections 631 and 633.

DATES: This correction is effective January 2, 2002.

FOR FURTHER INFORMATION CONTACT: Lisa A. Fuller, (202) 622-7750 (not a toll-free number).

SUPPLEMENTARY INFORMATION:

Background

The temporary regulations that are the subject of these corrections is under sections 631 and 633 of the Internal Revenue Code.

Need for Correction

As published, the TD 8975 contain errors that may prove to be misleading and are in need of clarification.

Correction of Publication

Accordingly, the publication of TD 8975, that were the subject of FR Doc. 01-31969, is corrected as follows:

1. On page 10, column 1, in the preamble under the paragraph heading “Section 1374 Operational Rules”, first paragraph, line 8, the language “The comments pointed out certain” is corrected to read “The commentators pointed out certain”.

LaNita Van Dyke,
Acting, Chief, Regulations Unit, Associate Chief Counsel (Income Tax and Accounting).

[FR Doc. 02-2154 Filed 1-28-02; 8:45 am]

BILLING CODE 4830-01-P